DEPARTMENT OF THE INTERIOR

Bureau of Land Management

[WY-040-1430-EU; WYW-128339]

Notice of Realty Action: Direct Sale of Public Lands in Sublette County, Wyoming

AGENCY: Bureau of Land Management, Interior.

ACTION: Notice of realty action.

SUMMARY: The Bureau of Land Management (BLM) proposes to sell a 40-acre parcel of public land in Sublette County, Wyoming, for the appraised fair market value to G&E Livestock to resolve an unintentional unauthorized use of public lands.

DATES: Comments regarding the proposed sale must be received by the BLM at the address below not later than August 23, 2007.

ADDRESSES: Send all written comments concerning this proposed sale to the Field Manager, BLM-Rock Springs Field Office, 280 Highway 191 North, Rock Springs, Wyoming 82901. Comments received in electronic form, such as e-mail or facsimile, will not be considered.

FOR FURTHER INFORMATION CONTACT: Patricia Hamilton, Realty Specialist, at the above address or at 307-352-0334.

SUPPLEMENTARY INFORMATION: In accordance with the provisions of 43 CFR part 2710, the following described public land is proposed to be sold pursuant to the authority provided in Section 203 of the Federal Land Policy and Management Act of 1976 (FLPMA), as amended (43 U.S.C. 1713):

Sixth Principal Meridian

T. 29 N., R. 106 W.,

sec. 34, SW1/4SE1/4.

The area described contains 40 acres in Sublette County.

The appraised market value for this parcel is $6,400. The proposed sale is consistent with the objectives, goals, and decision of the BLM Green River Resource Management Plan, dated August 8, 1997, and the land is not required for other Federal purposes. The direct sale of this land to G&E Livestock will resolve an unintentional, unauthorized occupancy of public land managed by the BLM. In accordance with 43 CFR 2710.0-6(c)(3)(iii) and 43 CFR 2711.3-3(a), direct sale procedures are appropriate to resolve an inadvertent unauthorized occupancy of the land or to protect existing equities in the land. The unauthorized occupancy involves encroachment by an access road, two residences, and various ranch related structures such as a garage, grain silos and fence on the public land. In 1988, the BLM discovered the encroachment, and initiated formal procedures to authorize the existing ranch structures. An annual permit was approved to temporarily authorize the occupancy while a permanent resolution was sought. The sale, when completed, would add the public land to G&E Livestock's property, protect the improvements involved, and resolve the inadvertent encroachment. The parcel is the minimum size possible to ensure that all the improvements are included. G&E Livestock will be allowed 30 days from the receipt of a written offer to submit a deposit of at least 20 percent of the appraised value of the parcel, and 180 days thereafter to submit the balance.

On July 9, 2007 the above described land is segregated from appropriation under the public land laws, including the mining laws. The segregative effect of this notice shall terminate upon issuance of a patent, upon publication in the Federal Register of a termination of the segregation, or 2 years from the date of the publication of this notice in the Federal Register, whichever comes first.

The following reservations, rights, and conditions will be included in the patent that may be issued for the above parcel of Federal land:

1. A reservation of all minerals to the United States;

2. A right-of-way thereon for ditches or canals constructed by the authority of the United States pursuant to the Act of August 30, 1890 (43 U.S.C. 945);

3. Those rights for road purposes granted to Sublette County, its successors or assigns by Right-of-Way Serial No. WYW160624, under Title V of the Federal Land Policy and Management Act of 1976, 43 U.S.C. 1761-1771; and

4. Those rights for electric power purposes granted to Pacific Power & Light, its successors or assigns by Right-of-Way Serial No. WYW137000, Under Title V of the Federal Land Policy and Management Act of 1976, 43 U.S.C. 1761-1771.

Detailed information concerning the proposed land sale, including sale procedures, appraisal, planning and environmental documents, and a mineral report is available for review at the BLM, Rock Springs Field Office at the above address. Normal business hours are 7:45 a.m. to 4:30 p.m., Monday through Friday, except Federal holidays.

For a period of 45 days from the date of publication of this notice in the Federal Register, the general public and interested parties may submit written comments to the BLM Field Manager at the above address. Comments received during this process, including respondent's name, address, and other contact information, will be available for public review. Before including your address, phone number, e-mail address, or other personal identifying information in your comment, be advised that your entire comment—including your personal identifying information—may be publicly available at any time. While you can ask us in your comment to withhold from public review your personal identifying information, we cannot guarantee that we will be able to do so. Individual respondents may request confidentiality. If you wish to request that the BLM consider withholding your name, address, and other contact information (phone number, e-mail address, or fax number, etc.), from public review or disclosure under the Freedom of Information Act, you must state this prominently at the beginning of your comment. The BLM will make available for public review, in their entirety, all comments submitted by businesses or organizations, including comments by an individual in his or her capacity as an official or representative of a business or organization.

Any adverse comments will be reviewed by the State Director, who may sustain, vacate, or modify this realty action. In the absence of timely filed objections, this realty action will become the final determination of the Department of the Interior.

The land will not be offered for sale prior to September 7, 2007.

Authority: 43 CFR 2711.1-2(a)).

Michael R. Holbert,
Field Manager.

[FR Doc. E7-13166 Filed 7-6-07; 8:45 am]

BILLING CODE 4310-22-P